DEPARTMENT OF THE TREASURY

Internal Revenue Service

Open meeting of the Taxpayer Advocacy Panel Taxpayer Assistance Center Improvements Project Committee

AGENCY: Internal Revenue Service (IRS), Treasury.

ACTION: Notice of meeting.

SUMMARY: An open meeting of the Taxpayer Advocacy Panel Taxpayer Assistance Center Improvements Project Committee will be conducted. The Taxpayer Advocacy Panel is soliciting public comments, ideas, and suggestions on improving customer service at the Internal Revenue Service.

DATES: The meeting will be held Wednesday, February 11, 2015.

FOR FURTHER INFORMATION CONTACT: Robin Owsley at 1-888-912-1227 or (317) 685-7627.

SUPPLEMENTARY INFORMATION: Notice is hereby given pursuant to section 10(a)(2) of the Federal Advisory Committee Act, 5 U.S.C. App. (1988) that a meeting of the Taxpayer Advocacy Panel Taxpayer Assistance Center Improvements Project Committee will be held Wednesday, February 11, 2015, at 3:00 p.m. Eastern Time. The public is invited to make oral comments or submit written statements for consideration. Due to limited conference lines, notification of intent to participate must be made with Robin Owsley. For more information please contact: Robin Owsley at 1-888-912-1227 or (317) 685-7627or write: TAP Office, 575 N. Pennsylvania, Indianapolis, IN 46204 or contact us at the Web site: http://www.improveirs.org.

The committee will be discussing various issues related to the Taxpayer Assistance Centers and public input is welcomed.

Dated: January 21, 2015.
Otis Simpson,
Acting Director, Taxpayer Advocacy Panel.

[FR Doc. 2015-01480 Filed 1-27-15; 8:45 am]

BILLING CODE 4830-01-P